DEPARTMENT OF COMMERCE

National Oceanic and Atmospheric Administration

RIN 0648-XA816

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council Staff will hold a meeting of recreational fishermen to get input into management measures for the recreational summer flounder, scup, and black sea bass fisheries.

DATES: The meeting will begin on Friday, December 2, 2011 at 1 p.m. and will end on Saturday, December 3, 2011 no later than 5:30 p.m.

ADDRESSES: The meeting will be held at the Pier V Hotel at 711 Eastern Avenue Baltimore MD 21202, in the Harbor East Ballroom.

Council address: Mid-Atlantic Fishery Management Council, 800 N. State Street Suite 201, Dover, DE 19901; telephone: (302) 674-2331.

FOR FURTHER INFORMATION CONTACT: Dr. Christopher M. Moore, Executive Director, Mid-Atlantic Fishery Management Council, 800 N. State Street Suite 201, Dover, DE 19901; telephone: (302) 526-5255.

SUPPLEMENTARY INFORMATION: The purpose of this meeting is for the Mid-Atlantic Fishery Management Council to get guidance from the recreational fishing community in three areas: (1) What the recreational community envisions for Mid-Atlantic fisheries in the future; (2) The annual process related to establishing recreational regulations, focusing on the summer flounder, scup, and black sea bass fishery, and; (3) How the Council can work more effectively with the recreational community to integrate their views into the management process.

Special Accommodations

The meeting is physically accessible to people with disabilities. Requests for sign language interpretation or other auxiliary aids should be directed to M. Jan Saunders at the Mid-Atlantic Council Office, (302) 526-5251, at least 5 days prior to the meeting date.

Dated: November 7, 2011.
Tracey L. Thompson,
Acting Director, Office of Sustainable Fisheries, National Marine Fisheries Service.

[FR Doc. 2011-29191 Filed 11-10-11; 8:45 am]

BILLING CODE 3510-22-P